FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 4503F

Name: Aimar USA, Inc.

Address: 9111 N.W. 105 Way, Medley, FL 33178

Date Revoked: May 24, 2001.

Reason: Failed to maintain a valid bond.

License Number: 10873N

Name: Ameripak Services, Inc.

Address: 7301 N.W. 41 Street, Miami, FL 33166

Date Revoked: April 22, 2001.

Reason: Failed to maintain a valid bond.

License Number: 15759N

Name: Ben L. Poblete dba APC World Freight Services

Address: 1 So. Linden Avenue, Suite 2, So. Francisco, CA 94080

Date Revoked: April 18, 2001.

Reason: Failed to maintain a valid bond.

License Number: 14520N

Name: Bulkmatic Transport Company

Address: 2001 North Cline Avenue, Griffith, IN 46319

Date Revoked: March 26, 2001.

Reason: Surrendered license voluntarily.

License Number: 4556NF

Name: Cross Trans Service USA, Inc.

Address: 1480 Elmhurst Road, Elk Grove Village, IL 60007

Date Revoked: May 24, 2001.

Reason: Failed to maintain valid bonds.

License Number: 14998N

Name: D.S.C.V. Transport, Inc.

Address: 8210 Cinder Bed Road, Suite 7, Lorton, VA 22079

Date Revoked: May 27, 2001.

Reason: Failed to maintain a valid bond.

License Number: 6248N

Name: Flagship Container & Distribution, Inc.

Address: 22029 West Conway Place, Saugus, CA 91350

Date Revoked: March 31, 2001.

Reason: Surrendered license voluntarily.

License Number: 15877N

Name: Glory Harbor International Inc.

Address: 1107 E. Chapman Avenue, Suite 201, Orange, CA 92866

Date Revoked: April 17, 2001

Reason: Surrendered license voluntarily.

License Number: 16880F

Name: Hanover Navigation Limited

Address: 55 Green Street, San Francisco, CA 94111

Date Revoked: May 9, 2001.

Reason: Failed to maintain a valid bond.

License Number: 3483F

Name: Itochu Express (America) Inc.

Address: 335 Madison Avenue, New York, NY 10017

Date Revoked: May 4, 2001.

Reason: Failed to maintain a valid bond.

License Number: 8438N

Name: Pacon Express, Inc.

Address: 20620 So. Leapwood Avenue, Suite K, Carson, CA 90746

Date Revoked: May 24, 2001.

Reason: Failed to maintain a valid bond.

License Number: 4147F

Name: RMG International, Inc.

Address: 755 Bradfield, Houston, TX 77086

Date Revoked: May 4, 2001.

Reason: Failed to maintain a valid bond.

License Number: 1335F

Name: Royal Sales & Shipping

Address: 915 S. Rimpau Blvd., Los Angeles, CA 90019

Date Revoked: May 7, 2001.

Reason: Surrendered license voluntarily.

License Number: 16403N

Name: RTW Co For Shipping & Trad dba J&M Shipping

Address: 500 S. Kraemer #301, Brea, CA 92821

Date Revoked: May 17, 2001.

Reason: Failed to maintain a valid bond.

License Number: 16994N

Name: Total Transport International Corp.

Address: 1031 W. Manchester Blvd., Unit F, Inglewood, CA 90301

Date Revoked: March 30, 2001.

Reason: Surrendered license voluntarily.

Sandra L. Kusumoto,
Director, Bureau of Consumer Complaints and Licensing.

[FR Doc. 01-16854 Filed 7-3-01; 8:45 am]

BILLING CODE 6730-01-P